DEPARTMENT OF THE INTERIOR

National Park Service

[NPS-WASO-NAGPRA-NPS0031924; PPWOCRADN0-PCU00RP14.R50000]

Notice of Inventory Completion: Edge of the Cedars State Park Museum, Blanding, UT

AGENCY: National Park Service, Interior.

ACTION: Notice.

SUMMARY: The Edge of the Cedars State Park Museum has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Edge of the Cedars State Park Museum. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Edge of the Cedars State Park Museum at the address in this notice by June 21, 2021.

ADDRESSES: Chris Hanson, Manager, Edge of the Cedars State Park Museum, 660 W 400 N, Blanding, UT 84511-4000, telephone (435) 678-2238, email chanson@utah.gov.

SUPPLEMENTARY INFORMATION: Notice is here given in accordance with the Native American Graves Protection and Repatriation Act (NAGPRA), 25 U.S.C. 3003, of the completion of an inventory of human remains and associated funerary objects under the control of the Edge of the Cedars State Park Museum, Blanding, UT. The human remains and associated funerary objects were removed from Edge of the Cedars Site 42SA700, San Juan County, UT.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by Edge of the Cedars State Park Museum professional staff in consultation with representatives of the Hopi Tribe of Arizona; Navajo Nation, Arizona, New Mexico, & Utah; Ohkay Owingeh, New Mexico (previously listed as Pueblo of San Juan); Pueblo of Acoma, New Mexico; Pueblo of Jemez, New Mexico; Pueblo of Laguna, New Mexico; Pueblo of Nambe, New Mexico; Pueblo of Pojoaque, New Mexico; Pueblo of San Ildefonso, New Mexico; Pueblo of Tesuque, New Mexico; Southern Paiute Tribe, Santa Clara Pueblo, Southern Ute Indian Tribe of the Southern Ute Reservation, Colorado; Ute Mountain Ute Tribe (previously listed as Ute Mountain Tribe of the Ute Mountain Reservation, Colorado, New Mexico, & Utah); and the Zuni Tribe of the Zuni Reservation, New Mexico (hereafter referred to as “The Consulted Tribes”).

History and Description of the Remains

Between 1967 and 1987, human remains representing, at minimum, 12 individuals were removed from Edge of the Cedars Site 42SA700, San Juan County, UT. Museum archives indicate that the individuals were removed from an enormous depression under a large rubble mound during several in-house excavations. Additional intensive excavations were conducted on the site by Weber State College and Brigham Young University between 1969 and 1972, focusing on the rubble mound and depression, which were later recognized as a great house and great kiva, respectively. The human remains consist of eight adults, three juveniles, and one infant; all are of unknown sex. No known individuals were identified. The 28 associated funerary objects are sixteen fossil shells, seven pottery sherds, one bag of faunal bone, one stone bead, one bag of pigment, one bag of eggshell fragments, and one copper bell.

Determinations Made by the Edge of the Cedars State Park Museum

Officials of the Edge of the Cedars State Park Museum have determined that:

• Pursuant to 25 U.S.C. 3001(9), the human remains described in this notice are Native American based on their discovery location within a prehistoric Native American architectural feature.

• Pursuant to 25 U.S.C. 3001(9), the human remains described in this notice represent the physical remains of 12 individuals of Native American ancestry.

• Pursuant to 25 U.S.C. 3001(3)(A), the 28 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Navajo Nation, Arizona, New Mexico, & Utah.

• Treaties, Acts of Congress, or Executive Orders indicate that the land from which the Native American human remains and associated funerary objects were removed is the aboriginal land of the Navajo Nation, Arizona, New Mexico, & Utah.

• Pursuant to 43 CFR 10.11(c)(1), the disposition of the human remains and associated funerary objects may be to the Navajo Nation, Arizona, New Mexico, & Utah.

Additional Requestors and Disposition

Representatives of any Indian Tribe or Native Hawaiian organization not identified in this notice that wish to request transfer of control of these human remains and associated funerary objects should submit a written request with information in support of the request to Chris Hanson, Manager, Edge of the Cedars State Park Museum, 660 W 400 N, Blanding, UT 84511-4000, telephone (435) 678-2238, email chanson@utah.gov, by June 21, 2021. After that date, if no additional requestors have come forward, transfer of control of the human remains and associated funerary objects to Navajo Nation, Arizona, New Mexico, & Utah may proceed.

The Edge of the Cedars State Park Museum is responsible for notifying The Consulted Tribes that this notice has been published.

Dated: May 6, 2021.
Melanie O'Brien,
Manager, National NAGPRA Program.

[FR Doc. 2021-10651 Filed 5-19-21; 8:45 am]

BILLING CODE 4312-52-P